FEDERAL COMMUNICATIONS COMMISSION

47 CFR Part 73

[DA 05-294, MB Docket No. 04-224, RM-10853, RM-10854]

Radio Broadcasting Services; Lake Havasu City, Arizona and Pahrump, NE

AGENCY: Federal Communications Commission.

ACTION: Final rule.

SUMMARY: This document grants a petition filed by SSR Communications Incorporated proposing the allotment of Channel 272C3 at Pahrump, Nevada, as that community's third local service. See 69 FR 35560, published June 25, 2004. This document also denies a petition filed by Steven M. Greeley, licensee of Station KJJJ(FM), Lake Havasu City, Arizona, requesting the substitution of Channel 272C for Channel 272B at Lake Havasu City, Arizona, reallotment of Channel 272C from Lake Havasu City to Pahrump, Nevada, as its third local service, and modification of Station KJJJ(FM)'s license accordingly. Channel 272C3 can be allotted to Pahrump, consistent with the minimum distance separation requirements of section 73.207(b) of the Commission's Rules, provided there is a site restriction of 6.1 kilometers (3.8 miles) northwest of the community. The reference coordinates for Channel 272C3 at Pahrump are 36-14-09 North Latitude and 116-02-32 West Longitude.

DATES: Effective March 21, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-224, adopted February 2, 2005, and released February 4, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Nevada, is amended by adding Channel 272C3 at Pahrump.

Federal Communications Commission.
John A. Karousos,
Assistant Chief, Audio Division, Media Bureau.

[FR Doc. 05-3310 Filed 2-18-05; 8:45 am]

BILLING CODE 6712-01-P